DEPARTMENT OF HOMELAND SECURITY

Coast Guard

[Docket No. USCG-USCG-2015-0676]

Merchant Marine Personnel Advisory Committee; Vacancies

AGENCY: Coast Guard, DHS.

ACTION: Request for applications.

SUMMARY: The Coast Guard seeks applications for membership on the Merchant Marine Personnel Advisory Committee. This Committee advises the Secretary of the Department of Homeland Security on matters related to personnel in the U.S. merchant marine, including but not limited to training, qualifications, certification, documentation, and fitness standards.

DATES: Completed applications should reach the Coast Guard on or before November 3, 2015.

ADDRESSES: Applicants should send a cover letter expressing interest in an appointment to the Merchant Marine Personnel Advisory Committee that identifies which membership category the applicant is applying under, along with a resume detailing the applicant's experience via one of the following methods:

• By Email: davis.j.breyer@uscg.mil.

• By Fax: (202) 372-8382.

• By Mail: Davis J. Breyer, Marine Transportation Specialist, Commandant (CG-OES-1), US Coast Guard Stop 7509, 2703 Martin Luther King Jr Ave SE, Washington, DC 20593-7509.

FOR FURTHER INFORMATION CONTACT: Davis J. Breyer, Alternate Designated Federal Officer of the Merchant Marine Personnel Advisory Committee; telephone 202-372-1445 or email at davis.j.breyer@uscg.mil.

SUPPLEMENTARY INFORMATION: Notice of this action is given under the Federal Advisory Committee Act, Title 5 United States Code Appendix. The Merchant Marine Personnel Advisory Committee was established under authority of section 310 of the Howard Coble Coast Guard and Maritime Transportation Act of 2014, Title 46, United States Code, section 8108, and chartered under the provisions of the Federal Advisory Committee Act. The Committee acts solely in an advisory capacity to the Secretary of the Department of Homeland Security through the Commandant of the Coast Guard on matters relating to personnel in the U.S. merchant marine, including but not limited to training, qualifications, certification, documentation, and fitness standards and other matters as assigned by the Commandant; shall review and comment on proposed Coast Guard regulations and policies relating to personnel in the United States merchant marine, including training, qualifications, certification, documentation, and fitness standards; may be given special assignments by the Secretary and may conduct studies, inquiries, workshops, and fact finding in consultation with individuals and groups in the private sector and with State or local governments; shall advise, consult with, and make recommendations reflecting its independent judgment to the Secretary; shall meet not less than twice each year; and may make available to Congress recommendations that the Committee makes to the Secretary. It may also meet for extraordinary purposes. Its subcommittees and working groups may also meet to consider specific tasks as required.

Each Merchant Marine Personnel Advisory Committee member serves a term of office of up to three years. Members may be considered to serve up to two consecutive terms. All members serve without compensation from the Federal Government; however, upon request, they may receive travel reimbursement and per diem.

We will consider applications for the following five positions that expire or become vacant on June 1, 2016:

(1) One position for a licensed engineering officer who is licensed as either a limited chief engineer or a designated duty engineer;

(2) One position for a licensed deck officer with an unlimited tonnage master's license with experience on tank vessels;

(3) One position for a member who represents the viewpoint of shipping companies employed in ship operation management;

(4) One position for an unlicensed seaman who represents the viewpoint of Qualified Members of the Engine Department; and

(5) One position for a member who will be drawn from the general public.

If you are selected as a member from the general public, you will be appointed and serve as a Special Government Employee as defined in section 202(a) of Title 18, United States Code. As a candidate for appointment as a Special Government Employee, applicants are required to complete a Confidential Financial Disclosure Report (OGE Form 450). Coast Guard may not release the reports or the information in them to the public except under an order issued by a Federal court or as otherwise provided under the Privacy Act (5 U.S.C. 552a). Only the Designated Coast Guard Ethics Official or his or her designee may release a Confidential Financial Disclosure Report. Applicants can obtain this form by going to the Web site of the Office of Government Ethics (www.oge.gov) or by contacting the individual listed above in the FOR FURTHER INFORMATION CONTACT. Applications for a member drawn from the general public that are not accompanied by a completed OGE-Form 450 will not be considered.

Registered lobbyists are not eligible to serve on federal advisory committees in an individual capacity. See “Revised Guidance on Appointment of Lobbyists to Federal Advisory Committees, Boards, and Commissions” (79 FR 47482, August 13, 2014). Registered lobbyists are lobbyists required to comply with provisions contained in the Lobbying Disclosure Act of 1995 (2 U.S.C. 1605; Public Law 104-65 as amended by Title II of Public Law 110-81).

The Department of Homeland Security does not discriminate in selection of Committee members on the basis of race, color, religion, sex, national origin, political affiliation, sexual orientation, gender identity, marital status, disability and genetic information, age, membership in an employee organization, or any other non-merit factor. The Department of Homeland Security strives to achieve a widely diverse candidate pool for all of its recruitment actions.

If you are interested in applying to become a member of the Committee, send your cover letter and resume to Davis J. Breyer, Alternate Designated Federal Officer of the Merchant Marine Personnel Advisory Committee via one of the transmittal methods in the ADDRESSES section by the deadline in the DATES section of this notice.

To visit our online docket, go to http://www.regulations.gov enter the docket number (USCG-2015-0676) in the Search box, and click “Search”. Please do not post your resume or OGE 450 Form on this site.

Dated: August 31, 2015.
J.G. Lantz,
Director of Commercial Regulations and Standards.

[FR Doc. 2015-21965 Filed 9-3-15; 8:45 am]

BILLING CODE 9110-04-P